DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 24, 2018.

FOR FURTHER INFORMATION CONTACT: Ms. Tonjua Menefee, National Public Liaison, CL:NPL: BSRM, Rm. 7559, 1111 Constitution Avenue NW, Washington, DC 20224.

Phone: 202-317-6851 (not a toll-free number). Email address: PublicLiaison@irs.gov.

SUPPLEMENTARY INFORMATION: Notice is hereby given pursuant to section 10(a)(2) of the Federal Advisory Committee Act, 5 U.S.C. App. (1988), that a public meeting of the IRPAC will be held on Wednesday, October 24, 2018 from 9:00 a.m. to 1:00 p.m. at the Melrose Georgetown Hotel, 2430 Pennsylvania Ave. NW, Washington, DC 20037. Report recommendations on issues that may be discussed include: FIRE System Latency, IRC § 6050S and Form 1098-T Reporting; Business Master File Entity Addresses; Form W-9 Enhancements; Form W-4 2018 & 2019 versions; Expansion of IRS Direct Pay Program for Estimated Individual Income Tax Payments; Inclusion of Adjusted Gross Amount for Reporting on Form 1099-K; Tax Identification Number Identity Theft Resulting in False Forms 1099; Validity period of documentary evidence and treaty statement under the Qualified Intermediary (QI) Agreement; Foreign Account Tax Compliance Act including Section 871(m).

Last minute agenda changes may preclude notice. Due to limited seating and security requirements, please call or email Tonjua Menefee to confirm your attendance. Ms. Menefee can be reached at 202-317-6851 or PublicLiaison@irs.gov. Should you wish the IRPAC to consider a written statement, please call 202-317-6851, or write to: Internal Revenue Service, Office of National Public Liaison, CL:NPL:SRM, Room 7559, 1111 Constitution Avenue NW, Washington, DC 20224 or email: PublicLiaison@irs.gov.

Dated: October 10,2018.
Melvin Hardy,
Director, National Public Liaison.

[FR Doc. 2018-22514 Filed 10-15-18; 8:45 am]

BILLING CODE 4830-01-P